DEPARTMENT OF ENERGY

Federal Energy Regulatory Commission

[Project Nos. 12790-007; 12790-016]

Andrew Peklo III; Pomperaug Hydro, LLC; Notice of Effectiveness of Withdrawal of Application To Transfer License and Financing Plan

On September 24, 2018, Andrew Peklo, III and Pomperaug Hydro LLC jointly filed an application to transfer the license (Transfer Application) for the 76-kilowatt Pomperaug Hydroelectric Project No. 12790. On October 5, 2018, and supplemented on March 25, 2019, and June 25, 2020, Mr. Peklo filed for Commission approval a Project Financing Plan (Financing Plan) pursuant to Article 205 of the license. On November 22, 2022, Mr. Peklo filed a notice of withdrawal of the Transfer Application and the Financing Plan. The unconstructed project is located at the existing dam on the Pomperaug River, in the Town of Woodbury, in Litchfield County, Connecticut.

No motion in opposition to the notice of withdrawal has been filed, and the Commission has taken no action to disallow the withdrawal. Pursuant to Rule 216(b) of the Commission's Rules of Practice and Procedure,¹ the withdrawal of the Transfer Application and the Financing Plan became effective on December 7, 2022, and these proceedings are hereby terminated.

¹ 18 CFR 385.216(b) (2021).

Dated: January 20, 2023.
Kimberly D. Bose,
Secretary.

[FR Doc. 2023-01932 Filed 1-30-23; 8:45 am]

BILLING CODE 6717-01-P